DEPARTMENT OF JUSTICE

Notice of Lodging of Consent Decree Under the Comprehensive Environmental Response, Compensation, and Liability Act

Under 42 U.S.C. 9622(d)(2) and 28 CFR 50.7, notice is hereby given that on June 15, 2004, a proposed Consent Decree in United States v. Industrial Excess Landfill, Inc., Civil Action Number 5:89-CV-1988 (consolidated with State of Ohio v. Industrial Excess Landfill, Inc., Civil Action Number 5:91-CV-2559), was lodged with the United States District Court for the Northern District of Ohio.

The consent decree resolves claims against five defendants brought by the United States on behalf of the Environmental Protection Agency (“EPA”) under sections 106 and 107 of the Comprehensive Environmental Response, Compensation, and Liability Act (“CERCLA”), 42 U.S.C. 9606 and 9607, for response costs incurred and to be incurred by the United States in responding to the release and threatened release of hazardous substances at the Industrial Excess Landfill Superfund Site in Uniontown, Ohio. Under the Consent Decree, the Settling Defendants will perform the remedy for the Site as set forth in the completed Remedial Design for the Site, pay $17,925,000 (plus interest on this amount running from October 1, 2003) for past costs, and pay all interim and future response costs as defined in the Consent Decree that have been or will be incurred by the United States (subject to a limit of $700,000 for the portion of future response costs incurred in monitoring and overseeing Settling Defendants' performance of the remedy). The United States covenants not to sue the Settling Defendants regarding the Site, subject to reservations of rights for unknown conditions and information, and other reservations commonly included in CERCLA settlements.

The Department of Justice will receive, for a period of thirty (30) days from the date of this publication, comments relating to the Consent Decree. Comments should be addressed to the Assistant Attorney General, Environment and Natural Resources Division, PO Box 7611, U.S. Department of Justice, Washington, DC 20044-7611, and should refer to United States v. Industrial Excess Landfill, Inc., DOJ Ref. #90-11-3-247A.

The Consent Decree (including all its Appendices A through F) may be examined at the Office of the United States Attorney, Northern District of Ohio, 801 West Superior Avenue, Suite 400, Cleveland, Ohio 44113, and the Region 5 Office of the Environmental Protection Agency, 77 W. Jackson Blvd., Chicago, Illinois 60604. During the public comment period, the Consent Decree and all Appendices may also be examined on the following Department of Justice Web site: http://www.usdoj.gov/enrd/open.html. A copy of the Consent Decree may also be obtained by mail from the Consent Decree Library, PO Box 7611, U.S. Department of Justice, Washington, DC 2004-7611, or by faxing or e-mailing a request to Tonia Fleetwood, tonia.fleetwood@usdoj.gov, Fax No. (202) 514-0097, phone confirmation number (202) 514-1547.

The Department of Justice requires payment of reproduction costs (25 cents per page for standard paper sizes) for copies requested from the Consent Decree Library. In requesting a copy of the Consent Decree text only from the Consent Decree Library, please enclose a check in the amount of $23.75 payable to the U.S. Treasury. To obtain a copy of the text of the Consent Decree and Appendices A through E, which are on standard 8½ by 11 inch paper enclose a check in the amount of $58.25 payable to the U.S. Treasury. Appendix F to the Consent Decree is the Remedial Design submitted by the Settling Defendants pursuant to a prior Administrative Order. Appendix F includes numerous color and oversize pages that require special services to reproduce. To obtain a paper or CD-ROM copy of Appendix F, please call Ms. Tonia Fleetwood at (202) 514-1547 to discuss reproduction costs and delivery arrangements. Note that in addition to the locations identified above where the Consent Decree is available, the Remedial Design (Appendix F) may also be examined at the Site information repositories located at: (1) Lake Township Clerk's Office, 12360 Market North, Hartville, Ohio 44632, and (2) Hartville Branch Library, 411 East Maple Street, Hartville, Ohio 44632.

W. Benjamin Fisherow,
Deputy Section Chief, Environmental Enforcement Section, Environment and Natural Resources Division.

[FR Doc. 04-14261 Filed 6-22-04; 8:45 am]

BILLING CODE 4410-15-M